SURFACE TRANSPORTATION BOARD

[Docket No. FD 36149]

New Orleans Public Belt Railroad Corporation—Acquisition and Operation Exemption—Public Belt Railroad Commission of the City of New Orleans

On November 22, 2017, New Orleans Public Belt Railroad Corporation (NOPB Corp.),¹ a noncarrier, filed a verified notice of exemption under 49 CFR 1150.31 to acquire from the Public Belt Railroad Commission of the City of New Orleans (Public Belt), and operate approximately 26.7 miles of rail line and approximately 10.25 miles of assigned trackage rights pursuant to a Cooperative Endeavor Agreement (Agreement) to be entered into by NOPB Corp., Public Belt, the City of New Orleans (the City), and the Port. On December 11, 2017, the Board issued a decision holding this proceeding in abeyance and requesting supplemental information from NOPB Corp. NOPB Corp. provided that information on December 18, 2017.

¹ NOPB Corp. is a newly-formed public non-profit corporation and subsidiary of the Board of Commissioners of the Port of New Orleans (the Port).

NOPB Corp. describes the lines and trackage rights it seeks to acquire as follows:

1. The Public Belt main line from the connection with BNSF Railway Company (BNSF) and Union Pacific Railroad Company (UP) at milepost J8.3 at West Bridge Junction in Avondale, La. to milepost J1.1 at Southport Junction in Jefferson, La. and from milepost J0.3 at Lampert Junction in Jefferson to milepost J0.0 at the Jefferson/Orleans Parish, La. border, a total distance of approximately 7.5 miles in two sections connected by the overhead trackage rights described in Segment #6 below. The West Belt Junction-Southport Junction section of this Segment #1 includes the Huey P. Long Bridge.

2. The Public Belt main line from a milepost equation at the Jefferson/Orleans Parish border where milepost J0.0 = milepost 0.26 to the connection with CSX Transportation, Inc. (CSXT) at milepost 14.2 at Almonaster in New Orleans, a distance of approximately 13.94 miles.

3. The Burma West Lead in New Orleans from milepost 14.2 at Almonaster to the end of track at milepost 15.3, a distance of approximately 1.1 miles.

4. The Burma East Lead in New Orleans from the connection with CSXT at milepost 14.4 east of the Industrial Canal to the end of track at milepost 16.3, a distance of approximately 1.9 miles.

5. The Bulk Terminal Lead in New Orleans from the connection with CSXT at milepost G0.0 east of the Industrial Canal to milepost G1.5, a distance of approximately 1.5 miles.

6. Overhead trackage rights on Illinois Central Railroad Company (IC) from IC milepost 449.9 at East Bridge Junction in Shrewsbury, La. through Southport Junction (Public Belt milepost J1.1) to IC milepost 921.14 at Lampert Junction (Public Belt milepost J0.3), a distance of approximately 2.6 miles.² There is a milepost equation a Southport Junction, where IC milepost 451.7=IC milepost 921.9.

² See New Orleans Pub. Belt R.R.—Trackage Rights Exemption—Ill. Cent. R.R., FD 33182 (STB served Oct. 30, 1996). The eastern segment of these trackage rights, from Southport Junction to Lampert Junction, connects the two sections of Public Belt's main line described in Segment #1 above. The western segment of the trackage rights, from East Bridge Junction to Southport Junction, is adjacent to and north of Public Belt's main line between those points.

7. Overhead trackage rights on IC from IC Station 120+0.00 (Public Belt milepost 3.4) at Nashville Avenue to IC Station 175+68.09 (Public Belt milepost 4.4) at Valence Street in New Orleans, including the connection to the NOPB locomotive maintenance facility lead track at IC Station 163+80.0 (Public Belt milepost 4.2) near Upperline Street, a distance of approximately 1.05 miles.³

³ See Ill. Cent. R.R.—Joint Relocation Project Exemption—in New Orleans, La., FD 33533 (STB served January 16, 1998); Ill. Cent. R.R.—Joint Relocation Project Exemption—in New Orleans, La., FD 32598 (ICC served Nov. 16, 1994). These trackage rights are parallel to Public Belt's main line described in Segment #2 above and serve as a bypass around Cotton Warehouse Yard.

8. Overhead trackage rights on CSXT from the connection with Segment #2 at CSXT milepost 801.5 at Almonaster in New Orleans across the Port-owned Industrial Canal bridge to the connections with Segments #4 and #5 at CSXT milepost 801.2 in New Orleans, a distance of approximately 0.3 miles.

9. Temporary overhead trackage rights on IC from IC milepost 906.4 at East Bridge Junction in Shrewsbury to IC Milepost 900.8 at Orleans Junction in New Orleans and from IC milepost 444.2 at Orleans Junction to IC milepost 443.5 at Frellsen Junction in New Orleans, a distance of approximately 6.3 miles.⁴

⁴ See New Orleans Pub. Belt R.R.—Temp. Trackage Rights Exemption—Ill. Cent. R.R., FD 36067 (STB served Oct. 14, 2016 and Jan. 30, 2017). NOPB Corp. acknowledges that it will be subject to employee protective conditions imposed in New Orleans Public Belt Railroad—Temporary Trackage Rights Exemption—Illinois Central Railroad, FD 36067 (STB served Oct. 14, 2016).

NOPB Corp. will also acquire Public Belt's ownership or operating interests in all yard, industry, wharf, and lead tracks associated with the above line segments, including the Southern Recycling Lead, East Bridge Yard, Pacific Fruit Express Yard, Cotton Warehouse Yard, Race Yard, French Market Station, Pauline Yard, Claiborne Yard, France Yard, North Bulk Terminal Yard, and South Bulk Terminal Yard. Upon completion of the transaction, NOPB Corp. will be a Class III switching and terminal railroad and will continue to provide local and intermediate switching service in place of Public Belt.

NOPB Corp. certifies that its projected annual revenues as a result of this transaction will not exceed those that would qualify it as a Class III rail carrier.⁵ Because NOBP Corp.'s annual revenues will exceed $5 million, on October 13, 2017, NOBP Corp. certified to the Board that it had complied with the requirements of 49 CFR 1150.32(e) by posting notice on October 13, 2017, at workplaces of Public Belt employees and by serving notice on the national offices of the labor unions representing Public Belt employees on the same date. NOPB Corp. further certifies that the Agreement does not include any provision limiting NOPB Corp.'s future interchange of traffic with any connecting carrier.

⁵ NOPB Corp. notes that, because it will operate as a switching and terminal railroad, it presumably would be classified as a Class III carrier in any event. 49 CFR 1201(1-1)(d).

The transaction may be consummated on or after January 17, 2018, the effective date of the exemption (30 days after the verified notice of exemption was filed).⁶ If the verified notice contains false or misleading information, the exemption is void ab initio. Petitions to revoke the exemption under 49 U.S.C. 10502(d) may be filed at any time. The filing of a petition to revoke will not automatically stay the effectiveness of the exemption. Petitions to stay must be filed no later than January 4, 2018.

⁶ Because NOPB Corp.'s supplement was filed on December 18, that is considered the filing date of the verified notice for purposes of calculating the effective date of the exemption. In its supplement, NOPB Corp. requests that the effective date of the exemption be advanced to January 11, 2018. This request will be addressed in a separate decision.

An original and 10 copies of all pleadings, referring to Docket No. FD 36149, must be filed with the Surface Transportation Board, 395 E Street SW, Washington, DC 20423-0001. In addition, a copy of each pleading must be served on Thomas J. Litwiler, Fletcher & Sippel LLC, 29 North Wacker Dr., Suite 920, Chicago, IL 60606-2832.

According to NOPB Corp., this action is excluded from environmental review under 49 CFR 1105.6(c) and from historic preservation reporting requirements under 49 CFR 1105.8(b)(1).

Board decisions and notices are available on our website at WWW.STB.GOV.

Decided: December 21, 2017.
By the Board, Scott M. Zimmerman, Acting Director, Office of Proceedings.
Jeffrey Herzig,
Clearance Clerk.

[FR Doc. 2017-27931 Filed 12-26-17; 8:45 am]

BILLING CODE 4915-01-P